ENVIRONMENTAL PROTECTION AGENCY

[EPA-HQ-OPPT-2025-0067; FRL-12475-04-OCSPP]

Certain New Chemicals; Receipt and Status Information for April 2025

AGENCY: Environmental Protection Agency (EPA).

ACTION: Notice of receipt and request for comment.

SUMMARY: This document announces the Agency's receipt of new chemical submissions under the Toxic Substances Control Act (TSCA), including information about the receipt of a Premanufacture notice (PMN), Significant New Use Notice (SNUN), Microbial Commercial Activity Notice (MCAN), and an amendment to a previously submitted notice; test information; a biotechnology exemption application; an application for a test marketing exemption (TME); and a notice of commencement of manufacture (defined by statute to include import) (NOC) for a new chemical substance. This document also provides a periodic status report on the new chemical substances that are currently under EPA review or have recently concluded review. EPA is hereby providing notice of receipt of this information, as required by TSCA, and an opportunity to comment. This document covers the period from 4/1/2025 to 4/30/2025.

DATES: Comments must be received on or before August 11, 2025.

ADDRESSES: Submit your comments, identified by docket identification (ID) number EPA-HQ-OPPT-2025-0067 and the specific case number provided in this document for the chemical substance related to your comment, online at https://www.regulations.gov. Follow the online instructions for submitting comments. Do not submit electronically any information you consider to be Confidential Business Information (CBI) or other information whose disclosure is restricted by statute. Additional instructions on commenting and visiting the docket, along with more information about dockets generally, is available at https://www.epa.gov/.

FOR FURTHER INFORMATION CONTACT:

For technical information: Jim Rahai, Project Management and Operations Division (MC 7407M), Office of Pollution Prevention and Toxics, Environmental Protection Agency, 1200 Pennsylvania Ave. NW, Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. Executive Summary

A. Does this action apply to me?

This action provides information that is directed to the public in general.

B. What is the Agency's authority for taking this action?

EPA is publishing this document in the Federal Register as required by sections 5 of the Toxic Substances Control Act (TSCA), 15 U.S.C. 2601 et seq., and corresponding EPA regulations.

Under TSCA, a chemical substance may be either an “existing” chemical substance or a “new” chemical substance, see https://www.epa.gov/chemicals-under-tsca. Any chemical substance that is not on EPA's TSCA Inventory of Chemical Substances (TSCA Inventory) is classified as a “new chemical substance,” while a chemical substance that is listed on the TSCA Inventory is classified as an “existing chemical substance.” See TSCA section 3(2) and (11). For more information about the TSCA Inventory, see https://www.epa.gov/tsca-inventory.

Any person who intends to manufacture (including import) a new chemical substance for a non-exempt commercial purpose, or to manufacture or process a chemical substance in a non-exempt manner for a use that EPA has determined is a significant new use, is required by TSCA section 5 to provide EPA with a PMN, MCAN, or SNUN, as appropriate, before initiating the activity. EPA will review the notice, make a risk determination on the new chemical substance or significant new use, and take appropriate action as described in TSCA section 5(a)(3).

TSCA section 5(h)(1) authorizes EPA to allow persons, upon application and under appropriate restrictions, to manufacture a new chemical substance, or manufacture or process a chemical substance subject to a significant new use rule (SNUR) issued under TSCA section 5(a)(2), for “test marketing” purposes, upon a showing that the manufacture, processing, distribution in commerce, use, and disposal of the chemical substances will not present an unreasonable risk of injury to health or the environment. This is referred to as a test marketing exemption, or TME.

Premanufacture notification procedures for review of certain new microbial products of biotechnology are established in 40 CFR part 725. These pertain to MCANs and biotechnology exemptions, including TSCA experimental release applications (TERAs), TMEs for microorganisms, and Tier I and Tier II exemptions.

C. What action is the Agency taking?

This document provides notice of receipt and status reports for the covered period and certain submissions under TSCA section 5 and provides an opportunity to comment on this information. The Agency is providing information about the receipt of PMNs, SNUNs, MCANs, and an amendment to a previously submitted notice; test information; biotechnology exemption applications under 40 CFR part 725; TME applications; NOCs for new chemical substances; and a periodic status report on chemical substances that are currently under EPA review or have recently concluded review.

D. What should I consider as I prepare my comments for EPA?

1. Submitting CBI. Do not submit CBI to EPA through https://www.regulations.gov or email. If you wish to include CBI in your comment, please follow the instructions at https://www.epa.gov/dockets/commenting-epa-dockets#rules and clearly mark the information that you claim to be CBI. In addition to one complete version of the comment that includes CBI, a copy of the comment without CBI must be submitted for inclusion in the public docket. Information marked as CBI will not be disclosed except in accordance with procedures set forth in 40 CFR parts 2 and 703.

2. Tips for preparing your comments. When preparing and submitting your comments, see the commenting tips at https://www.epa.gov/dockets/commenting-epa-dockets.

II. Background

A. What information is being provided in this document?

The tables in this document provide the following information on the TSCA section 5 submissions received by EPA during this period and determined to be complete consistent with 40 CFR 720.70(a).

• Case number. The EPA number assigned to the TSCA section 5 submissions. Please note that a case number may be listed more than once in the table when the submission involves a subsequent amendment.

• Chemical substance. Name of the chemical substance, or generic name if the specific name is claimed as CBI.

• Manufacturer. Name of the submitting manufacturer, to the extent that such information is not subject to a CBI claim. The term “manufacturer” is defined by statute to include importer.

• Use(s). Potential uses identified by the manufacturer.

• Received. Date the submission was received by EPA.

• Commencement. Date of commencement provided by the submitter in the NOC.

• Test information. For test information received, the type of test information submitted to EPA based on the attachment type and subtype data selected by the submitter.

B. What do the acronyms mean that are used in the tables?

As used in each of the tables, the following explanations apply:

• (S) indicates that the information in the table is the specific information provided by the submitter.

• (G) indicates that the information in the table is generic information because the specific information provided by the submitter was claimed as CBI.

C. How can I access other information about TSCA section 5 submissions?

EPA provides information on its website about cases reviewed under TSCA section 5, including the PMNs, SNUNs, MCANs, and exemption applications received; the date of receipt; the final EPA determination on the submission; and the effective date of EPA's determination. See https://www.epa.gov/reviewing-new-chemicals-under-toxic-substances-control-act-tsca/pre-manufacture-notices. In addition, information EPA receives about chemical substances under TSCA, including non-CBI new chemical submissions, can be accessed in ChemView at https://chemview.epa.gov/chemview.

III. Receipt Reports

Table 1 provides non-CBI information for the PMNs, SNUNs and MCANs received by EPA that have passed an initial screening and determined to be complete consistent with 40 CFR 720.70(a) during this period.

Table 1—PMN/SNUN/MCANs Received and Under Review
Case No. | Received date | Manufacturer | Use(s) | Chemical substance
P-24-0080 | 4/14/2025 | SEPPIC | (S) Applications: HI&I, Plant protection products, Firefighting foam, Detergents, Oilfield, Paper and textile. Function: Non ionic surfactant for industrial uses and biomanufacturing process. Consumer Use: The new chemical will be contained in household products as surfactant. The recommended concentration is 5.5% maximum | (S) D-Glucopyranose, oligomeric, C9-11-branched alkyl glycosides.
P-24-0178 | 4/24/2025 | CBI | (G), Paints and coatings, Electronics, Metal Working Fluids, Home and Personal Care | (S) 2-Butanol, 3-amino-3-methyl.
P-24-0179 | 4/10/2025 | CBI | (G) Component in batteries | (G) Aluminum- and metal-doped cobalt metal nickel oxide.
P-24-0180 | 4/10/2025 | CBI | (G) Component in batteries | (G) Aluminum- and metal- and metal-doped cobalt metal nickel oxide.
P-24-0181 | 4/10/2025 | CBI | (G) Component in batteries | (G) Metal- and metal-doped cobalt metal metal nickel oxide.
P-24-0182 | 4/24/2025 | CBI | (G) Chemical precursor | (G) Cobalt metal nickel compound.
P-24-0186 | 4/2/2025 | SGP Ventures, Inc | (S) Epoxy used to fill holes in printed circuit boards | (S) 2-Oxiranemethanamine, N-[2-methyl-4-(2-oxiranylmethoxy)phenyl]-N-(2-oxiranylmethyl)-.
P-25-0052 | 4/24/2025 | Motiva Enterprises LLC | (G) Intermediate | (G) Hydrocarbon, processed.
P-25-0053 | 4/24/2025 | Motiva Enterprises LLC | (G) Intermediate | (G) Hydrocarbon, processed.
P-25-0054 | 4/24/2025 | Motiva Enterprises LLC | (G) Intermediate | (G) Hydrocarbon, processed.
P-25-0056 | 4/24/2025 | Motiva Enterprises LLC | (G) Intermediate | (G) Hydrocarbon, processed.
P-25-0057 | 4/24/2025 | Motiva Enterprises LLC | (G) Intermediate | (G) Hydrocarbon, processed.
P-25-0068 | 4/28/2025 | CYTEC INDUSTRIES INC | (G) Additive used in phosphoric acid production | (G) ether modified polyethyleneimine polymer.
P-25-0073 | 4/29/2025 | CBI | (G) Substance for the use in manufacturing of battery components | (G) Cobalt lithium manganese nickel oxide, metals.
P-25-0074 | 4/4/2025 | Momentive Performance Materials | (S) The new chemical substance (NCS) will be used as a coupling agent in elastomer-based formulations that will be used in molding operations to manufacture different types of rubber articles | (G) Ethanol, reaction products with methylated formaldehyde-melamine polymer and substituted alkane modified triethoxysilane.
P-25-0075 | 4/1/2025 | CBI | (G) Ink component | (G) Carbopolycyclic acid, substituted [(alkyl substituted carbomonocycle)diazenyl]-, metal salt.
P-25-0076 | 4/2/2025 | Momentive Performance Materials | (G) Isolated intermediate in an export-only product synthesis | (G) 1,4-phenylenedimethylidyne bis-alkyl heteroatom.
P-25-0077 | 4/4/2025 | Kalark Nanostructure Sciences Inc | (S) TBAs is used in semiconductor manufacturing | (S) Arsine, (1,1-dimethylethyl)-.
P-25-0078 | 4/25/2025 | Phillips 66 Corporate | (G) transportation fuel, feedstock | (G) Hydrocarbons, processed.
P-25-0079 | 4/25/2025 | Phillips 66 Corporate | (S) Component in transportation fuel | (G) Hydrocarbons, processed.
P-25-0080 | 4/25/2025 | Phillips 66 Corporate | (G) feedstock, fuel | (G) Hydrocarbons, processed.

Table 2 provides non-CBI information on the NOCs received by EPA that have passed an initial screening and determined to be complete during this period:

Table 2—NOCs Received and Under Review
Case No. | Received date | Commencement date | Chemical substance
P-18-0114 | 04/30/2025 | 02/20/2025 | (S) Propanoic acid, 3-hydroxy-2-(hydroxymethyl)-2-methyl-, polymer with 1,6-diisocyanatohexane and a-hydro-whydroxypoly[oxy(methyl-1,2-ethanediyl)] ether with 2-ethyl-2-(hydroxymethyl)-1,3-propanediol (3:1), 2-propenoate(ester), lithium salt, glycerol monoacrylate 1-neodecanoate- and propylene glycol monoacrylate-blocked.
P-18-0323 | 04/21/2025 | 04/14/2025 | (S) 2-Propenoic acid, 2-methyl-, 3-methyl-3-buten-1-yl ester.
P-18-0327 | 04/28/2025 | 08/19/2020 | (G) Mixed metal oxide.
P-20-0156 | 04/23/2025 | 10/16/2024 | (G) Sulfonium, triaryl-, carbopolycycle-substituted-carboxylate (1:1).
P-21-0089 | 04/08/2025 | 03/26/2025 | (G) Modified lignin chloride salt.
P-21-0090 | 04/08/2025 | 03/25/2025 | (G) Lignin, modified, reaction products with alkylamine by-products.
P-21-0102 | 04/29/2025 | 04/29/2025 | (G) heteromonocycle, polymer, [2-[(1-oxo-2-propen-1-yl)oxy]alkyl]ester.
P-21-0180 | 04/16/2025 | 12/16/2024 | (G) Sulfonium, (heterosubstitutedphenyl)diphenyl-, salt with 1,2-fluoroalkyl trisubstitutedbenzoate (1:1).
P-22-0153 | 04/22/2025 | 04/05/2025 | (S) 2-Propenoic acid, 2-methyl-, 2-hydroxyethyl ester, reaction products with 2-oxepanone homopolymer 2-[(2-methyl-1-oxo-2-propen-1-yl)oxy]ethyl] ester and phosphorous oxide (P2O5).
P-23-0143 | 04/02/2025 | 03/25/2025 | (S) L-Lysine, N-(3-carboxy-1-oxopropyl) derivs., sodium salts.
P-23-0144 | 04/02/2025 | 03/25/2025 | (S) L-Lysine, N-(3-carboxy-1-oxopropyl) derivs., calcium salts.
P-23-0188A | 04/24/2025 | 11/15/2024 | (G) Alkenoic acid, 3-methyl-, 1,1-dimethyl-2-propen-1-yl ester.

Table 3 provides non-CBI information on the test information that has been received by EPA and have passed an initial screening and determined to be complete during this time period:

Table 3—Test Information Received and Determined To Be Complete
Case No. | Received Date | Type of Test Information | Chemical Substance
P-17-0178 | 04/25/2025 | Notice of Study Schedule_PAG 2 Hydrolysis; CO 1 PAG Anions_Direct Photolysis Study Reports | (G) Sulfonium, triphenyl-, salt with substituted-alkyl 4-substituted-benzoate,.
P-18-0013 | 04/25/2025 | Notice of Study Schedule_PAG 2 Hydrolysis; CO 1 PAG Anions_Direct Photolysis Study Reports | (G) Sulfonium, phenolcarbopolycycle, inner salt.
P-18-0014 | 04/25/2025 | Notice of Study Schedule_PAG 2 Hydrolysis; CO 1 PAG Anions_Direct Photolysis Study Reports | (G) Sulfonium, triphenyl-, salt with disubstituted-heterocyclic compound (1:1),.
P-18-0037 | 04/25/2025 | Notice of Study Schedule_PAG 2 Hydrolysis; CO 1 PAG Anions_Direct Photolysis Study Reports | (G) Sulfonium, triphenyl-, salt with 2,4,5-trisubstituted-benzenesulfonate (1:1).
P-18-0304 | 04/28/2025 | Notice of Study Scheduling; CO 1 PAG Anions_Direct Photolysis Study Reports | (G) Sulfonium, bis(dihalocarbomonocycle) carbomonocycle, salt with substituted heteropolycycle dihalo sulfoalkanoate (1:1),.
P-18-0316 | 04/28/2025 | Notice of Study Scheduling; CO 1 PAG Anions_Direct Photolysis Study Reports | (G) Heteropolycycle, alkylaromatic-, salt with dihalo-substituted alkyl carbopolycycle carboxylate,.
P-18-0338 | 04/28/2025 | Notice of Study Scheduling; CO 1 PAG Anions_Direct Photolysis Study Reports | (G) Sulfonium, triaryl-, salt with polyhalo-4-sulfoalkyl polycarbocyclic alkane-1-carboxylate (1:1),.
P-19-0076 | 04/28/2025 | Notice of Study Scheduling; CO 1 PAG Anions_Direct Photolysis Study Reports | (G) Sulfonium, bis(dihalocarbomonocycle) carbomonocycle, salt with dihalo substituted alkyl carbopolycyclic carboxylate (1:1).
P-19-0078 | 04/25/2025 | Modified Phototransformation of Chemicals in Water—Direct Photolysis (OECD Test Guideline 316) | (G) Substituted heterocyclic onium compound, salt with 2,2,2-trifluoro-1-(sulfomethyl)-1-(trifluoromethyl)ethyl 3-[(2-methyl-1-oxo-2-propen-1-yl)oxy]tricycle[3.3.1.13,7]decane-1- carboxylate (1:1), polymer with acenaphthylene, 1-ethenyl-4-[(1-ethylcyclopentyl)oxy]benzene and 4-ethenylphenol, di-Me 2,2′-(1,2-diazenediyl)bis[2-methylpropanoate]-initiated.
P-19-0079 | 04/25/2025 | Modified Phototransformation of Chemicals in Water—Direct Photolysis (OECD Test Guideline 316) | (G) substituted heterocyclic onium compound, salt with 2,2,2-trifluoro-1-(sulfomethyl)-1-(trifluoromethyl)ethyl 3-[(2-methyl-1-oxo-2-propen-1-yl)oxy]tricyclo[3.3.1.13,7]decane-1- carboxylate (1:1), polymer with acenaphthylene, 1-ethenyl-4-[[1-(1-methylethyl)cyclopentyl]oxy]benzene and 4-ethenylphenol, di-Me 2,2′-(1,2-diazenediyl)bis[2-methylpropanoate]-initiated.
P-19-0111 | 04/25/2025 | Modified Phototransformation of Chemicals in Water—Direct Photolysis (OECD Test Guideline 316) | (G) Dibenzothiophenium, trifluoro-hydroxy-(triheterosubstitutedalkyl)alkaoate (1:1).
P-19-0112 | 04/25/2025 | Modified Phototransformation of Chemicals in Water—Direct Photolysis (OECD Test Guideline 316) | (G) Substituted heterocyclic onium compound, salt with 1-(difluorosulfomethyl)-2,2,2-trifluoroethyl 3-[(2-methyl-1-oxo-2-propen-1-yl)oxy]tricyclo[3.3.1.13,7]decane-1-carboxylate (1:1), polymer with 3-etheylphenol, 1-(1-methylethyl)cyclopentyl 2-methyl-2-propenoate and 1-(7-oxabicyclo[2.2.1]hept-2-yl)cyclopentyl 2-methyl-2-propenoate, di-Me 2,2′-(1,2-diazenediyl)bis[2-methylpropenoate]-initiated.
P-19-0114 | 04/25/2025 | Modified Phototransformation of Chemicals in Water—Direct Photolysis (OECD Test Guideline 316) | (G) Sulfonium, triphenyl-, trifluoro-hydroxy-(triheterosubstitutedalkyl)alkanoate (1:1).
P-19-0115 | 04/28/2025 | Notice of Study Scheduling; CO 1 PAG Anions_Direct Photolysis Study Reports | (G) Sulfonium, bis(dihalocarbomonocycle) carbomonocycle, substituted carbomonocyclic ester,.
P-19-0133 | 04/25/2025 | Modified Phototransformation of Chemicals in Water—Direct Photolysis (OECD Test Guideline 316) | (G) Heterotrisubstituted-bile acid, 1-(difluorosulfomethyl)-2,2,2-trifluoroethyl ester, ion(1-), (5)-, triphenylsulfonium (1:1).
P-19-0142 | 04/28/2025 | Notice of Study Scheduling; CO 1 PAG Anions_Direct Photolysis Study Reports | (G) Heteropolycycle, aromatic-, salt with dihalo-substituted alkyl carbopolycycle carboxylate (1:1).
P-19-0166 | 04/25/2025 | Direct Photolysis in Water by Sunlight Study Reports for the Consent Order 1 PAG Anions; 2 PAG 2 Hydrolysis | (G) Triaryl sulfonium, multicycloalkylalkoxycarbonyloxymonofluoroalkylsulfonate.
P-20-0120 | 04/28/2025 | Notice of Study Scheduling; CO 1 PAG Anions_Direct Photolysis Study Reports | (G) Carbomonocyclic sulfonium, salt with trihalo-sulfoalkyl hydroxycarbopolycyclic carboxylate,.
P-20-0122 | 04/25/2025 | Modified Phototransformation of Chemicals in Water—Direct Photolysis (OECD Test Guideline 316) | (G) Heterocyclic onium compound with fluorosubstitutedalkyl 2-methyl-2-propenoate (1:1), polymer with acenaphthylene, 4-ethenyl-alpha,alphadimethylbenzenemethanol and 4-ethenylphenyl acetate, hydrolyzed.
P-20-0139 | 04/25/2025 | Modified Phototransformation of Chemicals in Water—Direct Photolysis (OECD Test Guideline 316) | (G) Sulfonium, triphenyl-, 1,2-fluoroalkyltricycloalkyl-1-carboxylate (1:1).
P-20-0140 | 04/25/2025 | Notice of Study Schedule_PAG 2 Hydrolysis; CO 1 PAG Anions_Direct Photolysis Study Reports | (G) N-Substituted-beta-alanine, heterosubstituted-alkyl ester, ion(1-), triphenylsulfonium (1:1),.
P-20-0141 | 04/25/2025 | Modified Phototransformation of Chemicals in Water—Direct Photolysis (OECD Test Guideline 316) | (G) Sulfonium, [4-(1,1-dimethylethyl)phenyl]diphenyl-, salt with heterosubstituted-alkyl tricycloalkane-carboxylate (1:1).
P-20-0142 | 04/25/2025 | Modified Phototransformation of Chemicals in Water—Direct Photolysis (OECD Test Guideline 316) | (G) Dibenzothiophenium, 5-phenyl-, salt with 2,2-difluoro-2-sulfoethyl substituted-heterotricycloalkane-carboxylate (1:1).
P-20-0145 | 04/25/2025 | Modified Phototransformation of Chemicals in Water—Direct Photolysis (OECD Test Guideline 316) | (G) Substituted heterocyclic onium compound, salt with fluoropolysubstitutedalkyl substitutedtricycloalkane carboxylate (1:1), polymer with disubstitutedaromatic compound and 1-methylcyclopentyl 2-methyl-2-propenoate, di-Me 2,2′-(1,2-diazenediyl)bis[2-methylpropanoate]-initiated.
P-20-0147 | 04/25/2025 | Modified Phototransformation of Chemicals in Water—Direct Photolysis (OECD Test Guideline 316) | (G) Substituted-2H-thiopyrylium, salt with fluoroalkyl tricycloalkane-carboxylate (1:1).
P-20-0152 | 04/25/2025 | Modified Phototransformation of Chemicals in Water—Direct Photolysis (OECD Test Guideline 316) | (G) Sulfonium, triphenyl-, salt with 2,2-dihalo-2-sulfoethyl-2-oxo substituted -heterotricycloalkane-heteropolycyclo-carboxylate (1:1).
P-20-0155 | 04/25/2025 | Modified Phototransformation of Chemicals in Water—Direct Photolysis (OECD Test Guideline 316) | (G) Sulfonium, triphenyl-, salt with 5-alkyl-2-alkyl-4-(2,4,6-substituted tri-carbomonocycle, hetero-acid)benzenesulfonate (1:1).
P-20-0159 | 04/25/2025 | Modified Phototransformation of Chemicals in Water—Direct Photolysis (OECD Test Guideline 316) | (G) Phenoxathiinium, 10-phenyl, 5-alkyl-2-alkyl-4-(2,4,6-substituted tri-carbomonocycle, hetero-acid)benzenesulfonate (1:1).
P-21-0018 | 04/25/2025 | Modified Phototransformation of Chemicals in Water—Direct Photolysis (OECD Test Guideline 316) | (G) Sulfonium, triphenyl-, heterocyclic compound-carboxylate (1:1).
P-21-0027 | 04/28/2025 | Notice of Study Scheduling; CO 1 PAG Anions_Direct Photolysis Study Reports | (G) Heteropolycyclic, trihaloalkyl carbomonocycle-, hydroxy carbomonocyclic salt,.
P-22-0014 | 04/11/2025 | Freshwater Alga and Cyanobacteria, Growth Inhibition Test (OECD Test Guideline 201); Ready Biodegradability, Closed Bottle (OECD Test Guideline 301D) | (G) sodium bis(chloropropanediol) phosphate.
P-22-0129 | 04/25/2025 | Modified Phototransformation of Chemicals in Water—Direct Photolysis (OECD Test Guideline 316) | (G) Substituted heterocyclic onium compound, salt with heteropolysubstitutedalkyl substitutedtricycloalkane carboxylate (1:1), polymer with 1-alkenyl-4-[(alkylcycloalkyl)oxy]carbomonocycle, 5-ethyloctahydro-4,7-methano-1H-inden-5-yl 2-methyl-2-propenoate, hexahydro-5-oxo-2,6-methanofuro[3,2-b]furan-3-yl 2-methyl-2-propenoate and 4-hydroxyphenyl 2-methyl-2-propenoate.
P-23-0050 | 04/25/2025 | Modified Phototransformation of Chemicals in Water—Direct Photolysis (OECD Test Guideline 316) | (G) Substitutedheterocyclic onium compound, salt with heteropolysubstitutedalkyl substitutedtricycloalkanecarboxylate (1:1), polymer with 3-ethenylphenol and heterosubstitutedaromaticalkyl 2-methyl-2-propenoate, di-Me 2,2′-(1,2-diazenediyl)bis[2-methylpropanoate]-initiated.
P-24-0185 | 04/25/2025 | Modified Phototransformation of Chemicals in Water—Direct Photolysis (OECD Test Guideline 316) | (G) Sulfonium, triphenyl-, salt with fluorosulfoalkyl-fluoroalkyl substituted-heterotricycloalkane-carboxylate (1:1),.
P-25-0028 | 04/25/2025 | Modified Phototransformation of Chemicals in Water—Direct Photolysis (OECD Test Guideline 316) | (G) Heteroonium, tri(substitutedaromatichydrocarbon)-, nitrate (1:1).

IV. Status Reports

Information about the TSCA section 5 PMNs, SNUNs, MCANs, and exemption applications received, including the date of receipt, the status of EPA's review, the final EPA determination, and the effective date of EPA's determination, is available online at: https://www.epa.gov/reviewing-new-chemicals-under-toxic-substances-control-act-tsca/status-pre-manufacture-notices.

Authority: 15 U.S.C. 2601 et seq.

Dated: July 8, 2025.
Mary Elissa Reaves,
Director, Office of Pollution Prevention and Toxics.

[FR Doc. 2025-13022 Filed 7-10-25; 8:45 am]

BILLING CODE 6560-50-P